UNITED STATES AGENCY FOR INTERNATIONAL DEVELOPMENT

Notice of April 14 President's Global Development Council

AGENCY: United States Agency for International Development.

ACTION: Notice of meeting.

SUMMARY: Pursuant to the Federal Advisory Committee Act, notice is hereby given of a meeting of the President's Global Development Council (GDC).

Date: Monday, April 14, 2014.

Time: 9:00 a.m.-11:00 a.m.

Location: The National Press Club Ballroom, National Press Club Building, 13th Floor, 529 14th Street NW., Washington, DC.

Agenda

The purpose of the meeting is to solicit public input on key global development issues. The meeting will begin with opening remarks, followed by a panel presentation from GDC members on initial recommendations for U.S. development policies and practices, and the opportunity for public comment. The full meeting agenda will be forthcoming on www.whitehouse.gov.

Stakeholders

The meeting is free and open to the public. RSPVs are required. Persons wishing to attend should register online at http://www.whitehouse.gov/webform/presidents-global-development-council-meeting by April 10. Please note that capacity is limited.

SUPPLEMENTARY INFORMATION: This notice is provided less than 15 calendar days prior to the meeting (see 41 CFR 102-3.150(b)) due to logistical difficulties involved in coordinating high-level schedules.

FOR FURTHER INFORMATION CONTACT: Jayne Thomisee, 202-712-5506.

Dated: April 2, 2014.
Jayne Thomisee,
Executive Director, Global Development Council, U.S. Agency for International Development.

[FR Doc. 2014-07933 Filed 4-8-14; 8:45 am]

BILLING CODE 6116-02-P